DEPARTMENT OF THE INTERIOR

Bureau of Land Management

[LLCON02000 L51010000.ER0000 LVRWC16C8700 16X]

Notice of Intent To Prepare an Environmental Impact Statement for the Proposed Blue Valley Land Exchange, Grand and Summit Counties, Colorado

AGENCY: Bureau of Land Management, Interior.

ACTION: Notice.

SUMMARY: In compliance with the National Environmental Policy Act of 1969, as amended (NEPA), and the Federal Land Policy and Management Act of 1976, as amended (FLPMA), the Bureau of Land Management (BLM) Kremmling Field Office, Kremmling, Colorado intends to prepare an Environmental Impact Statement (EIS) to evaluate a proposed land exchange under section 206 of FLPMA, and by this notice is announcing the beginning of the scoping process to solicit public comments and identify issues.

DATES: This notice initiates the public scoping process for the EIS. Comments on issues may be submitted in writing until May 19, 2016. The date(s) and location(s) of any scoping meetings will be announced at least 15 days in advance through local media, newspapers and the BLM Web site at: http://www.blm.gov/co/st/en/fo/kfo.html. In order to be included in the Draft EIS, all comments must be received prior to the close of the 30-day scoping period or 15 days after the last public meeting, whichever is later. We will provide additional opportunities for public participation upon publication of the Draft EIS.

ADDRESSES: You may submit comments related to the Blue Valley Land Exchange by any of the following methods:

• Web site: http://www.blm.gov/co/st/en/fo/kfo.html

• Email: kfo_webmail@blm.gov

• Fax: 970-724-3006

• Mail: 2103 E. Park Avenue, P.O. Box 68, Kremmling, CO 80459

Documents pertinent to this proposal may be examined at the Kremmling Field Office.

FOR FURTHER INFORMATION CONTACT: Monte Senor, Assistant Field Manager; telephone 970-724-3002; see address above; email kfo_webmail@blm.gov. Contact Annie Sperandio at 970-724-3062 to have your name added to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: After coordination with the BLM, Galloway, Inc., owner of Blue Valley Ranch, submitted a land exchange proposal to the BLM whereby approximately 1,489 acres of Federal lands managed by the BLM in Grand County, Colorado would be conveyed to Blue Valley Ranch in exchange for approximately 1,832 acres of non-Federal lands in Summit and Grand counties, Colorado. Of the 1,832 acres, approximately 300 acres would be acquired within the White River National Forest administrative boundary. The Forest Service will participate as a cooperating agency on the EIS.

Pursuant to section 206 of the Federal Land Management and Policy Act of 1976, as amended, the proposed land exchange must be determined to be in the public interest and appraisals of the Federal and non-Federal parcels must show that the exchange parcels are equal in value. The EIS will provide BLM with the information necessary to make these determinations. The BLM has found that the proposed land exchange is appropriate for processing and is in conformance with land tenure decisions in the Kremmling Resouce Management Plan.

The purpose of the public scoping process is to determine relevant issues that will influence the scope of the environmental analysis, including alternatives, and guide the process for developing the EIS. At present, the BLM has identified the preliminary issues from internal scoping and public comments received on the Notice of Exchange Proposal released in June 2005. The issues that were raised during the informal scoping process and feasibility analysis include changes to public fishing access, perceived changes to float boating on the Blue River, concerns about changes to public access for hunting, and concerns about large land owners realizing a benefit from the exchange. The BLM will address these preliminary issues, along with the other issues identified during the public scoping process and preparation of the EIS. The BLM will identify, analyze and require mitigation, as appropriate, to address the reasonably foreseeable impacts to resources if this project is approved. Mitigation may include avoidance, minimization, rectification, reduction or elimination over time and compensatory mitigation. These potential measures may be considered at multiple scales, including the landscape-scale.

The BLM will use and coordinate the NEPA scoping process to help fulfill the public involvement process under the National Historic Preservation Act (54 U.S.C. 306108) as provided in 36 CFR 800.2(d)(3). The information about historic and cultural resources within the area potentially affected by the proposed Blue Valley Land Exchange will assist the BLM in identifying and evaluating impacts to such resources.

The BLM will consult with Indian tribes on a government-to-government basis in accordance with Executive Order 13175 and other policies. Tribal concerns, including impacts on Indian trust assets and potential impacts to cultural resources, will be given due consideration. Federal, State and local agencies, along with tribes and other stakeholders that may be interested in or affected by the proposed Blue Valley Land Exchange are invited to participate in the scoping process and, if eligible, may request or be requested by the BLM to participate in the development of the environmental analysis as a cooperating agency.

Before including your address, phone number, email address or other personal identifying information in your comment, you should be aware that your entire comment—including your personal identifying information—may be made publicly available at any time. While you can ask us in your comment to withhold your personal identifying information from public review, we cannot guarantee that we will be able to do so.

Authority: 40 CFR 1501.7

Ruth Welch,
BLM Colorado State Director.

[FR Doc. 2016-09040 Filed 4-18-16; 8:45 am]

BILLING CODE 4310-JB-P